DEPARTMENT OF TRANSPORTATION

Federal Aviation Administration

14 CFR Part 39

[Docket No. FAA-2014-0623; Directorate Identifier 2014-NM-139-AD; Amendment 39-17966; AD 2014-18-02]

RIN 2120-AA64

Airworthiness Directives; The Boeing Company Airplanes

AGENCY: Federal Aviation Administration (FAA), DOT.

ACTION: Final rule; request for comments.

SUMMARY: We are superseding Airworthiness Directive (AD) 2014-05-02 for certain The Boeing Company Model 737-100, -200, -200C, -300, -400, and -500 series airplanes. AD 2014-05-02 required repetitive inspections for cracking and corrosion of the aft pressure bulkhead, repetitive inspections of the frame chord drain path for debris, and corrective actions if necessary; and, for certain airplanes, enlargement of frame chord drain holes. This AD requires the same actions as AD 2014-05-02, but revises a certain repetitive inspection interval to avoid a misunderstanding of the repetitive inspection interval for the aft pressure bulkhead. This AD was prompted by reports from operators expressing confusion regarding a certain repetitive inspection interval for the aft pressure bulkhead. We are issuing this AD to detect and correct corrosion or cracking of the aft pressure bulkhead, which could result in loss of the aft pressure bulkhead web and stiffeners, and consequent rapid decompression of the airplane.

DATES: This AD is effective September 22, 2014.

The Director of the Federal Register approved the incorporation by reference of certain publications listed in this AD as of June 27, 2002 (67 FR 36085, May 23, 2002).

We must receive any comments on this AD by October 20, 2014.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0623; or in person at the Docket Management Facility between 9 a.m. and 5 p.m., Monday through Friday, except Federal holidays. The AD docket contains this AD, the regulatory evaluation, any comments received, and other information. The street address for the Docket Office (phone: 800-647-5527) is in the ADDRESSES section. Comments will be available in the AD docket shortly after receipt.

FOR FURTHER INFORMATION CONTACT: Alan Pohl, Aerospace Engineer, Airframe Branch, ANM-120S, FAA, Seattle Aircraft Certification Office, 1601 Lind Avenue SW., Renton, WA 98057-3356; phone: 425-917-6450; fax: 425-917-6590; email: alan.pohl@faa.gov.

SUPPLEMENTARY INFORMATION:

Discussion

On February 18, 2014, we issued AD 2014-05-02, Amendment 39-17775 (79 FR 12045, March 4, 2014), for certain The Boeing Company Model 737-100, -200, -200C, -300, -400, and -500 series airplanes. AD 2014-05-02 required repetitive inspections for cracking and corrosion of the aft pressure bulkhead, repetitive inspections of the frame chord drain path for debris, and corrective actions if necessary; and, for certain airplanes, enlargement of frame chord drain holes. AD 2014-05-02 resulted from three reports of severe corrosion in the area affected by AD 2002-10-11, Amendment 39-12757 (67 FR 36085, May 23, 2002), which AD 2014-05-02 superseded. We issued AD 2014-05-02 to detect and correct corrosion or cracking of the aft pressure bulkhead, which could result in loss of the aft pressure bulkhead web and stiffeners, and consequent rapid decompression of the airplane.

Actions Since AD 2014-05-02, Amendment 39-17775 (79 FR 12045, March 4, 2014) Was Issued

Since we issued AD 2014-05-02, Amendment 39-17775 (79 FR 12045, March 4, 2014), we have received reports from operators expressing confusion regarding the repetitive inspection interval for the aft pressure bulkhead inspection that was required by paragraph (l)(2) of AD 2014-05-02. We are issuing this AD to detect and correct corrosion or cracking of the aft pressure bulkhead, which could result in loss of the aft pressure bulkhead web and stiffeners, and consequent rapid decompression of the airplane.

FAA's Determination

We are issuing this AD because we evaluated all the relevant information and determined the unsafe condition described previously is likely to exist or develop in other products of the same type design.

AD Requirements

This AD requires the same actions that were required by AD 2014-05-02, Amendment 39-17775 (79 FR 12045, March 4, 2014), but we have revised the wording of the repetitive inspection interval for the aft pressure bulkhead specified in paragraph (l)(2) of this AD to clarify the required action. We have stated that the repetitive inspection interval must be repeated at intervals not to exceed 2 years.

Additional Change to AD 2014-05-02, Amendment 39-17775 (79 FR 12045, March 4, 2014)

We have corrected a typographical error in the supplemental type certificate number that is in paragraph (c)(2) of AD 2014-05-02, Amendment 39-17775 (79 FR 12045, March 4, 2014).

We have also added a statement to paragraphs (k) and (o) of this AD that for repaired areas, the required inspection may be accomplished without removal of the repairs. This change will not increase the economic burden on any operator, nor will it increase the scope of this AD.

FAA's Justification and Determination of the Effective Date

An unsafe condition exists that requires the immediate adoption of this AD. The FAA has found that the risk to the flying public justifies waiving notice and comment prior to adoption of this rule because operators have been uncertain of the correct repetitive inspection interval for the aft pressure bulkhead inspection. Therefore, we find that notice and opportunity for prior public comment are impracticable and that good cause exists for making this amendment effective in less than 30 days.

Comments Invited

This AD is a final rule that involves requirements affecting flight safety, and we did not provide you with notice and an opportunity to provide your comments before it becomes effective. However, we invite you to send any written data, views, or arguments about this AD. Send your comments to an address listed under the ADDRESSES section. Include the docket number FAA-2014-0623, and directorate identifier 2014-NM-139-AD at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD affects 419 airplanes of U.S. registry.

We estimate the following costs to comply with this AD:

Estimated Costs
Action | Labor cost | Parts cost | Cost per product | Cost on U.S. operators
Inspection [actions retained from AD 2014-05-02, Amendment 39-17775 (79 FR 12045, March 4, 2014)] | 4 work-hours × $85 per hour = $ 340 per inspection cycle | $0 | $340 per inspection cycle | $142,460 per inspection cycle.

The requirements of this AD add no additional economic burden.

We estimate the following costs to do any necessary repairs that would be required based on the results of the inspection. We have no way of determining the number of aircraft that might need these repairs.

On-Condition Costs
Action | Labor cost | Parts cost | Cost per product
Repair [actions retained from AD 2014-05-02, Amendment 39-17775 (79 FR 12045, March 4, 2014)] | Up to 136 work-hours × $85 per hour = Up to $11,560 | $5,217 | Up to $16,777.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2014-05-02, Amendment 39-17775 (79 FR 12045, March 4, 2014), and adding the following new AD:

2014-18-02 The Boeing Company: Amendment 39-17966; Docket No. FAA-2014-0623; Directorate Identifier 2014-NM-139-AD.

(a) Effective Date

This AD is effective September 22, 2014.

(b) Affected ADs

This AD replaces AD 2014-05-02, Amendment 39-17775 (79 FR 12045, March 4, 2014).

(c) Applicability

(1) This AD applies to The Boeing Company Model 737-100, -200, -200C, -300, -400, and -500 series airplanes, certificated in any category, line numbers (LNs) 1 through 3132 inclusive.

(2) Installation of Supplemental Type Certificate (STC) ST01219SE (http://rgl.faa.govRegulatory_and_Guidance_Libraryrgstc.nsf0be866b732f6cf31086257b9700692796$FILEST01219SE.pdf) does not affect the ability to accomplish the actions required by this AD. Therefore, for airplanes on which STC ST01219SE is installed, a ”change in product” alternative method of compliance (AMOC) approval request is not necessary to comply with the requirements of 14 CFR 39.17.

(d) Subject

Air Transport Association (ATA) of America Code 53, Fuselage.

(e) Unsafe Condition

This AD was prompted by three reports of severe corrosion in the area affected by AD 2002-10-11, Amendment 39-12757 (67 FR 36085, May 23, 2002). We are issuing this AD to detect and correct corrosion or cracking of the aft pressure bulkhead, which could result in loss of the aft pressure bulkhead web and stiffeners, and consequent rapid decompression of the airplane.

(f) Compliance

Comply with this AD within the compliance times specified, unless already done.

(g) Retained Initial Aft Pressure Bulkhead Inspection

This paragraph restates the requirements of paragraph (g) of AD 2014-05-02, Amendment 39-17775 (79 FR 12045, March 4, 2014), with no changes. For Model 737 series airplanes having LNs 1 through 929 inclusive, with more than 20,000 hours time-in-service or 7 years since date of manufacture, whichever occurs first: Within 120 days after January 20, 1986 (the effective date of AD 84-20-03 R1, Amendment 39-5183 (50 FR 51235, December 16, 1985)), unless already accomplished within 21 months before January 20, 1986, visually inspect the body station (BS) 1016 pressure bulkhead, including inspecting for cracking and corrosion of the pressure bulkhead, and for debris in the drain path in the chord frame, according to Boeing Alert Service Bulletin 737-53A1075, Revision 1, dated September 2, 1983; Revision 2, dated July 13, 1984; or Revision 3, dated June 8, 2000. Remove any obstruction to the drain hole in the frame chord and replace any deteriorated leveling compound, as noted in Boeing Alert Service Bulletin 737-53A1075, Revision 1, dated September 2, 1983; Revision 2, dated July 13, 1984; or Revision 3, dated June 8, 2000. Treat the area of inspection with corrosion inhibitor Boeing Material Specification (BMS) 3-23, or equivalent. After June 8, 2000 (the effective date of AD 2014-05-02), use only Boeing Alert Service Bulletin 737-53A1075, Revision 3, dated June 8, 2000, to do the actions required by this paragraph.

(h) Retained Drain Hole Enlargement

This paragraph restates the requirements of paragraph (h) of AD 2014-05-02, Amendment 39-17775 (79 FR 12045, March 4, 2014), with no changes. For airplanes identified in paragraph (g) of this AD: Within 1 year after January 20, 1986 (the effective date of AD 84-20-03 R1, Amendment 39-5183 (50 FR 51235, December 16, 1985)), accomplish the drain hole enlargement as shown in Boeing Alert Service Bulletin 737-53A1075, Revision 1, dated September 2, 1983; Revision 2, dated July 13, 1984; or Revision 3, dated June 8, 2000. After April 8, 2014 (the effective date of AD 2014-05-02), use only Boeing Alert Service Bulletin 737-53A1075, Revision 3, dated June 8, 2000, to do the actions required by this paragraph.

(i) Retained Corrective Action

This paragraph restates the requirements of paragraph (i) of AD 2014-05-02, Amendment 39-17775 (79 FR 12045, March 4, 2014), with no changes. If cracking or corrosion is found during any inspection required by paragraph (g) or (j) of this AD: Before further flight, repair according to paragraph (i)(1) or (i)(2) of this AD, as applicable.

(1) If the inspection was done before April 8, 2014 (the effective date of AD 2014-05-02, Amendment 39-17775 (79 FR 12045, March 4, 2014)): Repair according to Boeing Alert Service Bulletin 737-53A1075, Revision 1, dated September 2, 1983; Revision 2, dated July 13, 1984; or Revision 3, dated June 8, 2000; or according to a method approved by the Manager, Seattle Aircraft Certification Office (ACO), FAA; or per data meeting the type certification basis of the airplane approved by a Boeing Company Designated Engineering Representative (DER) who has been authorized by the Manager, Seattle ACO, to make such findings. For a repair method to be approved by the Manager, Seattle ACO, as required by this paragraph, the Manager's approval letter must specifically reference this AD.

(2) If the inspection was done on or after April 8, 2014 (the effective date of AD 2014-05-02, Amendment 39-17775 (79 FR 12045, March 4, 2014)): Repair using a method approved in accordance with the procedures specified in paragraph (p) of this AD.

(j) Retained Repetitive Visual Inspections of Aft Pressure Bulkhead

This paragraph restates the requirements of paragraph (j) of AD 2014-05-02, Amendment 39-17775 (79 FR 12045, March 4, 2014), with no changes. For airplanes identified in paragraph (g) of this AD: Repeat the visual inspections and corrosion inhibitor treatment specified in paragraph (g) of this AD at intervals not to exceed 2 years. Accomplishment of the initial aft pressure bulkhead inspection required by paragraph (k) of this AD terminates the inspection required by this paragraph.

(k) Retained Aft Pressure Bulkhead Detailed Inspection

This paragraph restates the requirements of paragraph (k) of AD 2014-05-02, Amendment 39-17775 (79 FR 12045, March 4, 2014), with clarification for repaired areas. Do a detailed inspection for cracking or corrosion of the aft pressure bulkhead at BS 1016 (including the forward and aft sides of the pressure web, forward and aft sides of the pressure chord, pressure chord radius, forward and aft sides of the angle stiffener, forward and aft chord, stringer end fitting, system penetration doublers, channel stiffeners and fasteners, “Z” stiffeners and fasteners, and fasteners common to the pressure chord and pressure web), according to Boeing Alert Service Bulletin 737-53A1075, Revision 3, dated June 8, 2000. Do this inspection at the applicable time shown in paragraph (k)(1), (k)(2), or (k)(3) of this AD. For repaired areas, this inspection may be accomplished without removal of the repairs.

(1) For airplanes on which an inspection has previously been done according to the requirements of paragraph (g) of this AD: Do the inspection within 2 years since the most recent inspection according to paragraph (g) or (j) of this AD, as applicable. For the airplanes identified in paragraph (g) of this AD, accomplishment of the inspection required by paragraph (k) of this AD terminates the inspections for cracking and corrosion required by paragraph (j) of this AD.

(2) For airplanes having L/Ns 930 through 1042 inclusive, on which an inspection has not previously been done according to paragraph (g) of this AD: Do the inspection within 2 years after June 27, 2002 (the effective date AD 2002-10-11, Amendment 39-12757 (67 FR 36085, May 23, 2002)).

(3) For airplanes having L/Ns 1043 through 3132 inclusive, on which an inspection has not previously been done according to paragraph (g) of this AD: Do the inspection within 6 years since the airplane's date of manufacture, or within 2 years after June 27, 2002 (the effective date AD 2002-10-11, Amendment 39-12757 (67 FR 36085, May 23, 2002)), whichever occurs later.

(l) Retained Repetitive Detailed Inspections of Aft Pressure Bulkhead

This paragraph restates the requirements of paragraph (l) of AD 2014-05-02, Amendment 39-17775 (79 FR 12045, March 4, 2014), with revised compliance times in paragraph (l)(2) of this AD. Repeat the inspection in paragraph (k) of this AD at the applicable time shown in paragraph (l)(1) or (l)(2) of this AD.

(1) For airplanes having L/Ns 1 through 1042 inclusive: Repeat the inspection thereafter at intervals not to exceed 2 years.

(2) For airplanes having L/Ns 1043 through 3132 inclusive: Repeat the inspection within 2 years since the last inspection or within 120 days after April 8, 2014 (the effective date of AD 2014-05-02, Amendment 39-17775 (79 FR 12045, March 4, 2014)), whichever occurs later. Repeat the inspection thereafter at intervals not to exceed 2 years.

(m) Retained Repair

This paragraph restates the requirements of paragraph (m) of AD 2014-05-02, Amendment 39-17775 (79 FR 12045, March 4, 2014), with no changes. If any corrosion or cracking is found during any inspection according to paragraph (k) or (l) of this AD: Do the applicable action specified in paragraph (m)(1) or (m)(2) of this AD.

(1) If the inspection was done prior to April 8, 2014 (the effective date of AD 2014-05-02, Amendment 39-17775 (79 FR 12045, March 4, 2014)): Before further flight, repair according to Boeing Alert Service Bulletin 737-53A1075, Revision 3, dated June 8, 2000. Exception: If corrosion or cracking of the web and stiffeners is outside the limits specified in Boeing Alert Service Bulletin 737-53A1075, Revision 3, dated June 8, 2000, or if corrosion or cracking is found in any structure not covered by the repair instructions in Boeing Alert Service Bulletin 737-53A1075, Revision 3, dated June 8, 2000, before further flight, repair according to a method approved by the Manager, Seattle ACO; or per data meeting the type certification basis of the airplane approved by the Boeing Commercial Airplanes Organization Designation Authorization (ODA) who has been authorized by the Manager, Seattle ACO, to make such findings. For a repair method to be approved by the Manager, Seattle ACO, as required by this paragraph, the Manager's approval letter must specifically reference this AD.

(2) On or after April 8, 2014 (the effective date of AD 2014-05-02, Amendment 39-17775 (79 FR 12045, March 4, 2014)), if any corrosion or cracking is found during any inspection required by this AD: Before further flight, repair the corrosion or cracking using a method approved in accordance with the procedures specified in paragraph (p) of this AD.

(n) Retained Repetitive Drain Path Inspections

This paragraph restates the requirements of paragraph (n) of AD 2014-05-02, Amendment 39-17775 (79 FR 12045, March 4, 2014), with no changes. For airplanes having L/N 1 through 3132 inclusive: Within 2 years since the last inspection in accordance with paragraph (k) of this AD or within 2 years after April 8, 2014 (the effective date of AD 2014-05-02), whichever occurs later: Do a general visual inspection of the drain path in the chord frame for debris, in accordance with Figure 2, Steps 1 through 6, of the Accomplishment Instructions of Boeing Alert Service Bulletin 737-53A1075, Revision 3, dated June 8, 2000. Remove any obstruction to the drain hole in the frame chord and replace any deteriorated leveling compound. Treat the area of inspection with corrosion inhibitor BMS 3-23, or equivalent, as specified in the Accomplishment Instructions of Boeing Alert Service Bulletin 737-53A1075, Revision 3, dated June 8, 2000. Repeat the actions required by this paragraph at intervals not to exceed 2 years. Do all actions required by this paragraph in accordance with the Accomplishment Instructions of Boeing Alert Service Bulletin 737-53A1075, Revision 3, dated June 8, 2000. For the purposes of this AD, a general visual inspection is a visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.

(o) Retained Optional Repetitive Aft Pressure Bulkhead Inspections and Corrective Action

This paragraph restates the requirements of paragraph (o) of AD 2014-05-02, Amendment 39-17775 (79 FR 12045, March 4, 2014), with clarification for repaired areas. For airplanes having L/Ns 1043 through 3132 inclusive: In lieu of performing the first inspection after April 8, 2014 (the effective date of AD 2014-05-02), required by paragraph (l)(2) of this AD, operators may do the actions specified in this paragraph. Within 2 years from the most recent aft pressure bulkhead inspection done as specified in the service information identified in paragraph (o)(1), (o)(2), or (o)(3) of this AD, or within 120 days after April 8, 2014, whichever occurs later: Do a detailed inspection for cracking or corrosion of the aft side of the aft pressure bulkhead at BS 1016 (including the aft sides of the pressure web, aft sides of the pressure chord, pressure chord radius, aft chord, stringer end fitting, system penetration doublers, and fasteners common to the pressure chord and pressure web), in accordance with the Accomplishment Instructions of Boeing Alert Service Bulletin 737-53A1075, Revision 3, dated June 8, 2000. For repaired areas, this inspection may be accomplished without removal of the repairs. If any corrosion or cracking is found: Before further flight, repair the corrosion or cracking using a method approved in accordance with the procedures specified in paragraph (p) of this AD. Repeat the inspection thereafter at intervals not to exceed 90 days for a period not to exceed 2 years, until the actions required by paragraph (l)(2) of this AD are accomplished.

(1) Boeing Alert Service Bulletin 737-53A1075, Revision 1, dated September 2, 1983.

(2) Boeing Alert Service Bulletin 737-53A1075, Revision 2, dated July 13, 1984.

(3) Boeing Alert Service Bulletin 737-53A1075, Revision 3, dated June 8, 2000.

(p) Alternative Methods of Compliance (AMOCs)

(1) The Manager, Seattle ACO, FAA, has the authority to approve AMOCs for this AD, if requested using the procedures found in 14 CFR 39.19. In accordance with 14 CFR 39.19, send your request to your principal inspector or local Flight Standards District Office, as appropriate. If sending information directly to the manager of the ACO, send it to the attention of the person identified in paragraph (q) of this AD. Information may be emailed to 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes ODA that has been authorized by the Manager, Seattle ACO, to make those findings. For a repair method to be approved, the repair must meet the certification basis of the airplane, and the approval must specifically refer to this AD.

(4) AMOCs approved previously in accordance with AD 2002-10-11, Amendment 39-12757 (67 FR 36085, May 23, 2002), are approved as AMOCs for the corresponding provisions of this AD.

(5) AMOCs approved previously in accordance with AD 2014-05-02, Amendment 39-17775 (79 FR 12045, March 4, 2014)), are approved as AMOCs for the corresponding provisions of this AD.

(q) Related Information

For more information about this AD, contact Alan Pohl, Aerospace Engineer, Airframe Branch, ANM-120S, FAA, Seattle Aircraft Certification Office, 1601 Lind Avenue SW., Renton, WA 98057-3356; phone: 425-917-6450; fax: 425-917-6590; email: alan.pohl@faa.gov.

(r) Material Incorporated by Reference

(1) The Director of the Federal Register approved the incorporation by reference (IBR) of the service information listed in this paragraph under 5 U.S.C. 552(a) and 1 CFR part 51.

(2) You must use this service information as applicable to do the actions required by this AD, unless the AD specifies otherwise.

(3) The following service information was approved for IBR on June 27, 2002 (67 FR 36085, May 23, 2002).

(i) Boeing Alert Service Bulletin 737-53A1075, Revision 1, dated September 2, 1983.

(ii) Boeing Alert Service Bulletin 737-53A1075, Revision 2, dated July 13, 1984.

(iii) Boeing Alert Service Bulletin 737-53A1075, Revision 3, dated June 8, 2000.

(4) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(5) You may view this service information at FAA, Transport Airplane Directorate, 1601 Lind Avenue SW., Renton, WA. For information on the availability of this material at the FAA, call 425-227-1221.

(6) You may view this service information that is incorporated by reference at the National Archives and Records Administration (NARA). For information on the availability of this material at NARA, call 202-741-6030, or go to: http://www.archives.gov/federal-register/cfr/ibr-locations.html.

Issued in Renton, Washington, on August 22, 2014.
Kevin Hull,
Acting Manager, Transport Airplane Directorate, Aircraft Certification Service.

[FR Doc. 2014-21019 Filed 9-4-14; 8:45 am]

BILLING CODE 4910-13-P